DEPARTMENT OF COMMERCE

Foreign-Trade Zones Board

[B-84-2016]

Foreign-Trade Zone (FTZ) 21—Dorchester County, South Carolina, Notification of Proposed Production Activity, AGRU America Charleston, LLC (Industrial Pipes), North Charleston, South Carolina

The South Carolina State Ports Authority, grantee of FTZ 21, submitted a notification of proposed production activity to the FTZ Board on behalf of AGRU America Charleston, LLC (AGRU), located in North Charleston, South Carolina. The notification conforming to the requirements of the regulations of the FTZ Board (15 CFR 400.22) was received on December 9, 2016.

The AGRU facility is located within Site 5 of FTZ 21. The facility is used for the production of large volume industrial pipes for high volume flow applications. Pursuant to 15 CFR 400.14(b), FTZ activity would be limited to the specific foreign-status materials and components and specific finished products described in the submitted notification (as described below) and subsequently authorized by the FTZ Board.

Production under FTZ procedures could exempt AGRU from customs duty payments on the foreign-status component used in export production. On its domestic sales, AGRU would be able to choose the duty rate during customs entry procedures that applies to high density polyethylene (HDPE) pipes (duty rate 3.1%) for the foreign-status input noted below. Customs duties also could possibly be deferred or reduced on foreign-status production equipment.

The components and materials sourced from abroad include high density polyethylene (HDPE) pellets having relative viscosity of 1.44 or more (duty rate 6.5%).

Public comment is invited from interested parties. Submissions shall be addressed to the Board's Executive Secretary at the address below. The closing period for their receipt is January 25, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: December 12, 2016.
Andrew McGilvray,
Executive Secretary.

[FR Doc. 2016-30341 Filed 12-15-16; 8:45 am]

BILLING CODE 3510-DS-P